DEPARTMENT OF THE INTERIOR

Bureau of Land Management

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held May 16, 2006, beginning at 9 a.m. and adjourning at 4 p.m. at the American Legion-Community Center, Phipps Watson Hall, Marsing, ID. Public comment periods will be held after topics on the agenda.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. Meeting topics will include the following:

• Review of Action Items from previous RAC meeting;

• Hot Topics;

• Updates on current issues and planned activities in the three Field Offices and the District;

• Subcommittee Reports:

○ Rangeland Standards and Guidelines;

○ OHV & Transportation Management;

○ Sage Grouse Habitat Management;

○ Resource Management Plans, and;

○ Fire and Fuels Management.

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM Coordinator as provided above. Expedited publication is requested to give the public adequate notice.

Dated: April 19, 2006.
Jerry L. Taylor,
District Manager.

[FR Doc. 06-3892 Filed 4-24-06; 8:45 am]

BILLING CODE 4310-32-P